DEPARTMENT OF THE INTERIOR

Bureau of Land Management

[AK-930-5420-EU-L028; AA-085446]

Notice of Applications for Recordable Disclaimers of Interest for Lands Underlying Kasilof River in Alaska

AGENCY: Bureau of Land Management, Interior.

ACTION: Notice.

SUMMARY: The State of Alaska has filed an application for a recordable disclaimer of interest in certain lands underlying the Kasilof River by the United States.

DATES: Comments on the State of Alaska's applications should be submitted on or before June 1, 2005. Interested parties may submit to comments on the BLM Draft Navigability Reports on or before May 2, 2005.

ADDRESSES: Comments should be sent to the Chief, Branch of Lands and Realty, BLM Alaska State Office, 222 West 7th Avenue, #13, Anchorage, Alaska 99513-7599.

FOR FURTHER INFORMATION CONTACT: Callie Webber at (907) 271-3167 or Jack Frost at (907) 271-5531 or you may visit the BLM recordable disclaimer of interest Web site at http://www.ak.blm.gov/ak930/rdi/index.html.

SUPPLEMENTARY INFORMATION: On May 12, 2004, the State of Alaska filed applications for recordable disclaimers of interest pursuant to section 315 of the Federal Land Policy and Management Act and the regulations contained in 43 CFR subpart 1864 for lands underlying Kasilof River (AA-085446). A recordable disclaimer of interest, if issued, will confirm the United States has no valid interest in the subject lands. The notice is intended to notify the public of the pending applications and the State's grounds for supporting it. The State asserts that this river is navigable; therefore, under the Equal Footing Doctrine and Submerged Lands Act of 1953, ownership of these lands underlying the rivers automatically passed from the United States to the State at the time of statehood in 1959.

The State's application, AA-085446, is for “all submerged lands lying within the bed of the Kasilof River, and all interconnected sloughs, between the ordinary high water lines of the left and right banks from the boundary of the Kenai National Wildlife Refuge at Township 2 North, Range 11 West, Sections 5 and 8, Seward Meridian, Alaska, downstream to its mouth in Cook Inlet within Townships 3 and 4 North, Range 12 West, Seward Meridian, Alaska”. The State did not identify any known adverse claimant or occupant of the affected lands.

A final decision on the merits of the applications will not be made before June 1, 2005. During the 90-day period, interested parties may comment upon the State's application, AA-085446, and supporting evidence. Interested parties may comment on the evidentiary evidence presented in the BLM's Draft Navigability Reports on or before May 2, 2005.

Comments, including names and street addresses of commenters, will be available for public review at the Alaska State Office (see ADDRESSES above), during regular business hours 7:30 a.m. to 4:30 p.m., Monday through Friday, except holidays. Individual respondents may request confidentiality. If you wish to hold your name or address from disclosure under the Freedom of Information Act, you must state this prominently at the beginning of your comments. Such requests will be honored to the extent allowed by law. All submissions from organizations or businesses will be made available for public inspection in their entirety.

Dated: February 24, 2005.
Carolyn Spoon,
Chief, Branch of Lands and Realty.

[FR Doc. 05-4075 Filed 3-2-05; 8:45 am]

BILLING CODE 4310-JA-M